DEPARTMENT OF THE INTERIOR

National Park Service

[2253-665]

Notice of Inventory Completion: Western Michigan University, Anthropology Department, Kalamazoo, MI; Correction

AGENCY: National Park Service, Interior.

ACTION: Notice; correction.

SUMMARY: In a Notice of Inventory Completion (75 FR 67998, Thursday, November 4, 2010), Little Traverse Bay Bands of Odawa Indians, Michigan, was listed as being culturally affiliated to human remains and associated funerary objects removed from the Gyftakis site (20MK51), Mackinac County, MI, however, since publication, additional consultation has resulted in a determination that the human remains and associated funerary objects are culturally unidentifiable. Therefore, this Notice of Inventory Completion corrects the affiliation of the human remains and associated funerary objects that were removed from the Gyftakis site (20MK51), Mackinac County, MI, described in the previously published Notice of Inventory Completion to that of culturally unidentifiable Native American human remains and associated funerary objects.

Western Michigan University, Department of Anthropology has completed an inventory of human remains and associated funerary objects, in consultation with the appropriate Indian tribes, and has determined that there is no cultural affiliation between the human remains and associated funerary objects and any present-day Indian tribe. Representatives of any Indian tribe that believes itself to be culturally affiliated with the human remains and associated funerary objects may contact the Western Michigan University, Department of Anthropology. Disposition of the human remains and associated funerary objects to the Indian tribe stated below may occur if no additional requestors come forward.

DATES: Representatives of any Indian tribe that believes it has a cultural affiliation with the human remains and associated funerary objects should contact the Western Michigan University, Department of Anthropology at the address below by July 21, 2011.

ADDRESSES: LouAnn Wurst, Department of Anthropology, Western Michigan University, 1005 Moore Hall, Kalamazoo, MI 49008, telephone (269) 387-2753.

SUPPLEMENTARY INFORMATION: Notice is here given in accordance with the Native American Graves Protection and Repatriation Act (NAGPRA), 25 U.S.C. 3003, of the completion of an inventory of human remains and associated funerary objects in the possession of Western Michigan University, Department of Anthropology, Kalamazoo, MI. The human remains and associated funerary objects were removed from Mackinac County, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice

Consultation

A detailed assessment of the human remains was made by Western Michigan University, Department of Anthropology professional staff in consultation with representatives of the Bay Mills Indian Community, Michigan; Little Traverse Bay Bands of Odawa Indians, Michigan; Sault Ste. Marie Tribe of Chippewa Indians of Michigan; and the Saginaw Chippewa Indian Tribe of Michigan (hereinafter referred to as “The Tribes”). The Tribes do not object to the disposition of the human remains and associated funerary objects described in this notice to the Little Traverse Bay Bands of Odawa Indians, Michigan.

History and Description of the Remains

In 1973, human remains representing a minimum of eight individuals were removed from the Gyftakis site (20MK51), St. Ignace, Moran Township, Mackinac County, MI, during an archeological excavation directed by Dr. James Fitting. Middle Woodland period ceramic sherds were found during test excavations for the St. Ignace Archaeological Survey Project, which prompted further archeological research. The burials were found to be in good condition. The human remains were transferred to Western Michigan University for curation and further analysis by Dr. Robert Sundick, a physical anthropologist in the Anthropology Department at Western Michigan University. No known individuals were identified. The 20 associated funerary objects are 8 black bear scapula and fragments, 1 black bear atlas, 1 black bear proximal femur head, 1 large bird long bone shaft, 1 possible black bear phalanx, 1 possible crane carpometacarpus, 1 raptor carpometacarpus, 1 possible small bird long bone, 1 unidentified non-human cranium fragment, 2 bird or small mammal long bones, and 2 probable bird phalanxes.

Native American ancestry was determined based on skeletal and dental morphology, as well as the temporal association of the Gyftakis Site to the Middle Woodland period (A.D. 170). Radiocarbon dating of a sample from an associated hearth and AMS date of ceramic pot residue, as well as seriation of the pottery and lithic tools discovered at the Gyftakis site which were not associated funerary objects, are all indicative of the Middle Woodland period and are clearly of pre-Contact/European manufacturing.

Determinations Made by Western Michigan University, Department of Anthropology

Officials of Western Michigan University, Department of Anthropology, have determined that:

• Based on skeletal and dental morphology, in addition to radiocarbon and AMS dating, and other artifacts which all demonstrate a Middle Woodland temporal association, the human remains are Native American.

• Pursuant to 25 U.S.C. 3001(2), a relationship of shared group identity cannot be reasonably traced between the Native American human remains and associated funerary objects and any present-day Indian tribe.

• Multiple lines of evidence, such as the Treaty of Saginaw 1819 (also known as the Treaty with the Chippewa of 1819), continued occupation of the area, and oral tradition, indicate that the land from which the Native American human remains and associated funerary objects were removed is the aboriginal land of The Tribes.

• Pursuant to 25 U.S.C. 3001(9), the human remains described in this notice represent the physical remains of eight individuals of Native American ancestry.

• Pursuant to 25 U.S.C. 3001(3)(A), the 20 objects described above are reasonably believed to have been placed with or near individual human remains at the time of death or later as part of the death rite or ceremony.

• Pursuant to 43 CFR 10.11(c)(1), the disposition of the human remains is to the Little Traverse Bay Bands of Odawa Indians, Michigan.

Additional Requestors and Disposition

Representatives of any Indian tribe that believes itself to be culturally affiliated with the human remains and associated funerary objects or any other Indian tribe that believes it satisfies the criteria in 43 CFR 10.11(c)(1) should contact LouAnn Wurst, Department of Anthropology, Western Michigan University, 1005 Moore Hall, Kalamazoo, MI 49008, telephone (269) 387-2753, before July 21, 2011. Disposition of the human remains and associated funerary objects to the Little Traverse Bay Bands of Odawa Indians, Michigan, may proceed after that date if no additional requestors come forward.

Western Michigan University, Department of Anthropology, is responsible for notifying The Tribes that this notice has been published.

Dated: June 15, 2011.
Sherry Hutt,
Manager, National NAGPRA Program.

[FR Doc. 2011-15436 Filed 6-20-11; 8:45 am]

BILLING CODE 4312-50-P